DEPARTMENT OF COMMERCE

National Oceanic and Atmospheric Administration

50 CFR Part 622

[Docket No. 070718369-8731-02]

RIN 0648-XS50

Fisheries of the Caribbean, Gulf of Mexico, and South Atlantic; Reef Fish Fishery of the Gulf of Mexico; Closure of the 2009 Gulf of Mexico Recreational Fishery for Greater Amberjack

AGENCY: National Marine Fisheries Service (NMFS), National Oceanic and Atmospheric Administration (NOAA), Commerce.

ACTION: Temporary rule; closure.

SUMMARY: NMFS closes the recreational fishery for greater amberjack in the exclusive economic zone (EEZ) of the Gulf of Mexico (Gulf). During the closure, the bag and possession limit for greater amberjack in or from the Gulf EEZ is zero. In addition, a person aboard a vessel for which a Federal charter vessel/headboat permit for Gulf reef fish has been issued must also abide by these closure provisions in state waters. NMFS has determined this action is necessary to prevent the recreational fishery for greater amberjack from exceeding its quota for the fishing year. This closure is necessary to prevent overfishing of Gulf greater amberjack.

DATES: The closure is effective 12:01 a.m., local time, October 24, 2009, through December 31, 2009.

FOR FURTHER INFORMATION CONTACT: Dr. Steve Branstetter, telephone 727-551-5796, fax 727-824-5308, e-mail Steve.Branstetter@noaa.gov.

SUPPLEMENTARY INFORMATION: The reef fish fishery of the Gulf of Mexico is managed under the Fishery Management Plan for the Reef Fish Resources of the Gulf of Mexico (FMP). The FMP was prepared by the Gulf of Mexico Fishery Management Council (Council) and is implemented under the authority of the Magnuson-Stevens Fishery Conservation and Management Act (Magnuson-Stevens Act) by regulations at 50 CFR part 622. These regulations set the recreational quota for Gulf greater amberjack at 1,368,000 lb (620,514 kg), round weight, for the current fishing year, January 1, through December 31, 2009.

Background

Constraining harvest to the quota is crucial to meeting the legal requirements to prevent and end overfishing and rebuild greater amberjack in the Gulf of Mexico. On August 4, 2008, new fishing regulations were implemented by NMFS (73 FR 38139) to reduce the harvest and discard of greater amberjack in the Gulf reef fish fishery. Regulatory changes for recreational greater amberjack included implementing a quota of 1,368,000 lb (620,514 kg), round weight and accountability measures.

Using reported landings for 2009, NMFS projects the 2009 recreational greater amberjack quota will be met on October 24, 2009. Therefore, in accordance with 50 CFR 622.43(a), NMFS is closing the recreational fishery for greater amberjack in the Gulf EEZ, effective 12:01 a.m. local time on October 24, 2009. During the closure, the bag and possession limit for greater amberjack in or from the Gulf EEZ is zero. In addition to the Gulf EEZ closure, as specified in 50 CFR 622.4(a)(1)(iv), a person aboard a vessel for which a Federal charter vessel/headboat permit for Gulf reef fish has been issued must also abide by these closure provisions in state waters. The closure is intended to prevent overfishing and increase the likelihood that the 2009 quota will not be exceeded. The recreational fishery for greater amberjack will reopen on January 1, 2010, the beginning of the 2010 recreational fishing year.

Classification

This action responds to the best available information recently obtained from the fishery. The AA for Fisheries, NOAA, finds good cause to waive the requirement to provide prior notice and opportunity for public comment pursuant to the authority set forth in 5 U.S.C. 553(b)(3)(B). Such procedures would be unnecessary because the rule implementing the quota and the associated requirement for closure of the fishery when the quota is reached or projected to be reached already has been subject to notice and comment, and all that remains is to notify the public of the closure.

Providing prior notice and opportunity for public comment on this action would be contrary to the public interest. It would be contrary to the public interest because any delay in the closure of this fishery could result in the recreational quota for greater amberjack being exceeded, which, in turn, would trigger the accountability measure for greater amberjack. The accountability measure states that if recreational landings exceed the quota, NMFS will file a notification with the Office of the Federal Register, at or near the beginning of the following fishing year, to reduce the length of the recreational fishing season for the following fishing year by the amount necessary to recover the overage from the prior fishing year. Reducing the length of the following fishing season would be disruptive to business plans and would provide less flexibility to fishermen for when they could harvest the quota.

For the aforementioned reasons, the AA also finds good cause to waive the 30-day delay in the effectiveness of this action under U.S.C. 553(d)(3).

This action is taken under 50 CFR 622.43(a) and is exempt from review under Executive Order 12866.

Authority: 16 U.S.C. 1801 et seq.

Dated: October 16, 2009.
Emily H. Menashes,
Acting Director, Office of Sustainable Fisheries, National Marine Fisheries Service.

[FR Doc. E9-25449 Filed 10-19-09; 4:15 pm]

BILLING CODE 3510-22-S